DEPARTMENT OF HEALTH AND HUMAN SERVICES

Office of the Assistant Secretary for Preparedness and Response; HHS Public Health Emergency Medical Countermeasures Enterprise Stakeholders Workshop

AGENCY: Department of Health and Human Services.

Subagency: Office of the Secretary.

Subject: HHS Public Health Emergency Medical Countermeasures Enterprise Stakeholders Workshop.

Authority: Dr. Gerald Parker, Principal Deputy Assistant Secretary, Office of the Assistant Secretary for Preparedness and Response.

ACTION: Notice of meeting.

SUMMARY: The Department of Health and Human Services is pleased to announce the upcoming HHS Public Health Emergency Medical Countermeasures Enterprise Stakeholders Workshop, to be held July 31-August 2, 2007, in Washington, DC. This three-day event is an open meeting that seeks to bring together representatives from the pharmaceutical and biotechnology industries, professional societies, state and local public health organizations, the academic research and development community, public interest groups, stakeholder federal agencies, and Congress. Featured topics will include the Biomedical Advanced Research and Development Authority (BARDA); Project BioShield; the HHS PHEMCE Implementation Plan for Chemical, Biological, Radiological and Nuclear Threats; the HHS Pandemic Influenza Implementation Plan; and contracting with HHS for medical countermeasure development and acquisition.

DATES: The Workshop will be held July 31-August 2, 2007. Each day will begin at 8 a.m.

ADDRESSES: The Workshop will be held at the Fairmont, Washington, DC, 2401 M Street, NW., Washington, DC 20037.

Agenda: The preliminary agenda is available at www.hhs.gov/aspr/ophemc/enterprise/bioshield/2007workshop.html.

Registration: There is no fee to attend; however, space is limited and registration is required. Register online at www.hhs.gov/aspr/ophemc/enterprise/bioshield/2007workshop.html.

SUPPLEMENTARY INFORMATION: Immediately following the Workshop, HHS is also hosting the 2007 Biomedical Advanced Research and Development Authority (BARDA) Industry Day on August 3, 2007 at the Fairmont Hotel Washington, DC. This unique event will provide an opportunity for industry representatives and other interested parties to demonstrate the operation and effectiveness of relevant biodefense technologies in vaccines, diagnostics, and therapeutics. For more information on presenting at or attending the BARDA Industry Day, visit www.hhs.gov/aspr/ophemc/barda/index.html.

DATE: This notice is effective 14 May 2007.

FOR FURTHER INFORMATION CONTACT: Joanna M. Prasher, Ph.D., Office of the Biomedical Advanced Research and Development Authority, Office of the Assistant Secretary for Preparedness and Response at 330 Independence Ave., SW., Room G640, Washington, DC 20201, e-mail at BioShield@hhs.gov, or by phone at 202-260-1200.

Carol D. Linden,
Principal Deputy & Acting Director, BARDA.

[FR Doc. E7-10742 Filed 6-4-07; 8:45 am]

BILLING CODE 4150-37-P